DEPARTMENT OF THE INTERIOR

Bureau of Land Management

[LLCAD01000L12100000.MD000015XL1109AF]

Second Call for Nominations for the California Desert District Advisory Council

AGENCY: Bureau of Land Management, Department of the Interior.

ACTION: Notice.

SUMMARY: The purpose of this notice is to reopen the request for public nominations for the Desert Advisory Council (DAC). Council members provide advice and recommendations to the BLM on the management of public lands in Southern California.

DATES: All nominations must be received no later than March 11, 2015.

ADDRESSES: Nominations should be sent to Teresa Raml, District Manager, Bureau of Land Management, California Desert District Office, 22835 Calle San Juan De Los Lagos, Moreno Valley, CA 92553.

FOR FURTHER INFORMATION CONTACT: Stephen Razo, BLM California Desert District External Affairs, 22835 Calle San Juan De Los Lagos, Moreno Valley, CA 92553-9046, (951) 697-5217. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The California Desert District Advisory Council is comprised of 15 private individuals who represent different interests and advise BLM officials on policies and programs concerning the management of over 10 million acres of public land in Southern California. The Council meets in formal session three to four times each year in various locations throughout the BLM California Desert District. Council members serve without compensation other than travel expenses. Members serve three-year terms and may reapply to be nominated for reappointment to an additional three-year term.

Section 309 of the Federal Land Policy and Management Act directs the Secretary of the Interior to involve the public in planning and issues related to management of BLM-administered lands. The Secretary also selects Council nominees consistent with the requirements of the Federal Advisory Committee Act (FACA), which requires nominees appointed to the Council be balanced in terms of points of view and representative of the various interests concerned with the management of the public lands.

The Council also is balanced geographically, and the BLM will try to find qualified representatives from areas throughout the California Desert District. The District covers portions of eight counties, and includes more than 10 million acres of public land in the California Desert Conservation Area of Mono, Inyo, Kern, Los Angeles, San Bernardino, Riverside, and Imperial counties, as well as 300,000 acres of scattered parcels in San Diego, western Riverside, western San Bernardino, and Los Angeles counties (known as the South Coast).

Public notice begins with the publication date of this notice and nominations will be accepted for 30 days from the date of this notice. The seven positions to be filled include one elected official, one representative of non-renewable resources groups or organizations, one representative of recreation groups or organizations, one representative of wildlife groups or organizations, and two representatives of the public-at-large. These six positions became vacant on December 7, 2014. The seventh position is a representative of the renewable energy industry. This position became vacant on January 9, 2015. The BLM was notified of this pending vacancy during the initial nomination period. The BLM is issuing a second call for nominations to notify the public of this vacant position and to reopen the nomination period for those positions listed in the initial call for nominations. If you have already submitted your DAC nomination materials for 2015, you will not need to resubmit.

Any group or individual may nominate a qualified person, based upon education, training, and knowledge of the BLM, the California Desert, and the issues involving BLM-administered public lands throughout Southern California. Qualified individuals may also nominate themselves.

The nomination form may be found on the Desert Advisory Council Web page: http://www.blm.gov/ca/st/en/info/rac/dac.html. The following must accompany the form for all nominations:

• Letters of reference from represented interests or organizations.

• A completed background information nomination form.

• Any other information that addresses the nominee's qualifications.

Nominees unable to download the nomination form may contact the BLM California Desert District External Affairs staff at (951) 697-5217 to request a copy. Advisory Council members are appointed by the Secretary of the Interior. The Obama Administration prohibits individuals who are currently federally registered lobbyists to serve on all FACA and non-FACA boards, committees or councils.

Authority: 43 CFR 1784.4-1.

Teresa A. Raml,
California Desert District Manager.

[FR Doc. 2015-02550 Filed 2-6-15; 8:45 am]

BILLING CODE 4310-40-P